NUCLEAR REGULATORY COMMISSION

[Docket No. 50-309]

Maine Yankee Atomic Power Company, et al.; Maine Yankee Atomic Power Station; Notice of Receipt and Availability for Comment of Revised License Termination Plan

The Nuclear Regulatory Commission (NRC) is in receipt of and is making available for public inspection and comment the revised License Termination Plan (LTP) for the Maine Yankee Atomic Power Station (MYAPS) located in Lincoln County, Maine.

Maine Yankee Atomic Power Company (MYAPC) submitted its proposed LTP for MYAPS by application dated January 13, 2000. The NRC published notice of the receipt and availability for comment of the LTP in the Federal Register on March 23, 2000 (65 FR 15657). On May 17, 2000, the NRC published notice of the license amendment request and opportunity for hearing associated with the LTP (65 FR 31357).

On June 1, 2001, MYAPC filed a revised LTP. The MYAPS LTP revision is available for public inspection at the Commission's Public Document Room, located at One White Flint North, 11555 Rockville Pike (first floor), Rockville, Maryland, where it may be examined, and/or copied for a fee. Publicly available records will be accessible electronically from the ADAMS Public Library Component on the NRC Web site, http://www.nrc.gov (the Electronic Reading Room). In addition, the revised LTP may be accessed on the MYAPC web site, www.maineyankee.com.

Comments regarding the MYAPS LTP may be submitted in writing and addressed to Mr. Michael Webb, Mail Stop O-7 D1, U.S. Nuclear Regulatory Commission, Washington, D.C. 20555-0001, telephone (301) 415-1347 or e-mail mkw@nrc.gov.

Dated at Rockville, Maryland, this 18th day of June 2001.
For the Nuclear Regulatory Commission.
Robert A. Gramm,
Chief, Section 1, Project Directorate IV, Division of Licensing Project Management, Office of Nuclear Reactor Regulation.

[FR Doc. 01-15709 Filed 6-21-01; 8:45 am]

BILLING CODE 7590-01-P